DEPARTMENT OF COMMERCE

National Oceanic and Atmospheric Administration

RIN 0648-XD812

Endangered and Threatened Species; Take of Anadromous Fish

AGENCY: National Marine Fisheries Service (NMFS), National Oceanic and Atmospheric Administration (NOAA), Commerce.

ACTION: Notice; availability of draft environmental assessment and request for comment.

SUMMARY: Notice is hereby given that NMFS has prepared a draft Environmental Assessment under the National Environmental Policy Act (NEPA) of the potential effects of the continued operation of four hatchery programs in the Sandy River Basin of Oregon. The Hatchery and Genetic Management Plans (HGMPs) for those programs were prepared and submitted by the Oregon Department of Fish and Wildlife (ODFW). All comments and other information received will become part of the public record and will be available for review.

DATES: Comments must be received at the appropriate address or fax number (see ADDRESSES) no later than 5 p.m. Pacific time on May 11, 2015.

ADDRESSES: Written comments on the application should be addressed to the NMFS Sustainable Fisheries Division, 1201 NE. Lloyd Boulevard, Suite 1100, Portland, OR 97232, or faxed to (503) 872-2737. Comments may be submitted by email. The mailbox address for providing email comments is: SandyHatcheriesEA.wcr@noaa.gov. Include in the subject line of the email comment the following identifier: Comments on Oregon's 2013 Sandy Hatchery plans. When commenting on the draft environmental assessment, please refer to the specific page number and line number of the subject of your comment. The draft environmental assessment is also available on the Internet at www.westcoast.fisheries.noaa.gov. Comments received will also be available for public inspection, by appointment, during normal business hours by calling (503) 230-5418.

FOR FURTHER INFORMATION CONTACT: Rich Turner, at phone number: (503) 736-4737, or via email: Rich.Turner@noaa.gov.

SUPPLEMENTARY INFORMATION:

ESA-Listed Species Covered in This Notice

Chinook salmon (Oncorhynchus tshawytscha): threatened, naturally produced and artificially propagated Lower Columbia River.

Chum salmon (O. keta): threatened, naturally produced Columbia River.

Coho salmon (O. kisutch): threatened, naturally produced and artificially propagated Lower Columbia River.

Steelhead (O. mykiss): threatened, naturally produced and artificially propagated Lower Columbia River.

Pacific eulachon (Thaleichthys pacificus): threatened, naturally produced southern distinct population segment.

ODFW has previously submitted to NMFS four HGMPs describing hatchery programs that release salmon and steelhead into the Sandy River that were found, in a September 28, 2012, determination, to comply with requirements of the ESA under limit 5 of the 4(d) Rule. These programs were designed to meet mitigation responsibilities related to impacts from development in the Sandy River and Columbia River Basins by providing hatchery fish to support fishing opportunities while minimizing potential risks to natural-origin spring Chinook salmon, coho salmon, and winter steelhead populations, consistent with Oregon's Lower Columbia River Conservation and Recovery Plan for Oregon Populations of Salmon and Steelhead, and NMFS' Recovery Plan.

Since the determination in 2012, ODFW has identified changes it wishes to make to its hatchery operations and has submitted to NMFS four revised HGMPs describing changes to the current hatchery programs. The revised HGMPs were made available for public review and comment on December 10, 2013 (78 FR 74116). The revised HGMPs were found, in an August 8, 2014, determination, to comply with requirements of the ESA under limit 5 of the 4(d) Rule. The draft environmental assessment evaluates the potential effects of approving those updated HGMPs.

Authority

NEPA requires Federal agencies to conduct an environmental analysis of their proposed actions to determine if the actions may affect the human environment. Therefore, NMFS is seeking public input on the scope of the required NEPA analysis, including the range of reasonable alternatives and associated impacts of any alternatives.

Dated: March 4, 2015.
Cathryn E. Tortorici,
Acting Deputy Director, Office of Protected Resources, National Marine Fisheries Service.

[FR Doc. 2015-05537 Filed 3-10-15; 8:45 am]

BILLING CODE 3510-22-P